DEPARTMENT OF TRANSPORTATION

Federal Highway Administration

Notice of Final Federal Agency Actions on Proposed Highway in Minnesota

AGENCY: Federal Highway Administration (FHWA), US DOT.

ACTION: Notice of limitations on claims for judicial reviews by FHWA.

SUMMARY: This notice announces actions taken by FHWA that are final within the meaning of 23 U.S.C. 139(l)(1). The actions relate to a proposed highway project, United States Highway 53 between Virginia and Eveleth, in Saint Louis County in the State of Minnesota. Those actions grant licenses, permits, and approvals for the project.

DATES: By this notice, FHWA is advising the public of the final agency actions subject to 23 U.S.C. 139(l)(1). A claim seeking judicial review of the Federal agency actions on the highway project will be barred unless the claim is filed on or before April 18, 2016. If the Federal law that authorizes judicial review of a claim provides a time period of less than 150 days for filing such a claim, then that shorter time period still applies.

FOR FURTHER INFORMATION CONTACT: For FHWA: Philip Forst, Environmental Specialist, FHWA, Minnesota Division, 380 Jackson Street, Suite 500, Saint Paul, MN 55101, phil.forst@dot.gov, Phone: (651) 291-6100. For the United States Army Corps of Engineers (USACE): Daryl Wierzbinski, Saint Paul District Regulatory Project Manager Duluth Office, 600 South Lake Avenue, Suite 211, Duluth, MN 55802, Phone: (218)720-5291. For the Minnesota Department of Transportation, Pat Huston, Project Director, Minnesota Department of Transportation (MnDOT), District 1, 1123 Mesaba Avenue, Duluth, MN 55811, Phone: (218) 725-2707.

SUPPLEMENTARY INFORMATION: Notice is hereby given that FHWA and USACE have taken final agency actions by issuing approvals for the following transportation project in the State of Minnesota: US 53 between Virginia and Eveleth from the south end of the Midway neighborhood to the existing MN 135 exit ramp for the start of new four-lane construction. The new alignment, consisting of approximately two and one-half miles of new four-lane roadway and non-motorized accommodations, responds to the loss of roadway easement for existing US 53, meets regional and inter-regional system performance targets, and maintains local connectivity.

The FHWA signed a combined Final Environmental Impact Statement (FEIS) and Record of Decision (ROD) for the project on September 10, 2015. On September 25, 2015, FHWA published a “Notice of Availability for the combined FEIS and ROD in the Federal Register [80 FR 57807]. The USACE has taken final agency actions with the meaning of 23 U.S.C. 139(l)(1) by issuing a Section 404 permit for the project. The actions by FHWA and USACE, associated final actions by other Federal agencies, and the laws under which such actions were taken, are described in the FHWA and USACE decisions and its project records, referenced as FHWA Final EIS Number 20150270 and USACE Permit Number 2011-00769-DWW. That information is available by contacting FHWA or USACE at the address provided above.

Information about the project and project records are also available from MnDOT at the addresses provided above. The FEIS and ROD can be viewed at and downloaded from the MnDOT project Web site (http://www.dot.state.mn.us/d1/projects/hwy53relocation/eis.html). The Section 404 permit is available from USACE contact above and is typically posted at the USACE Saint Paul District Web site (http://www.mvp.usace.army.mil/Missions/Regulatory.aspx). This notice applies to the FEIS and ROD [80 FR 57807] as well as all Federal agency final actions taken since the issuance of the Federal Register notice described above. The laws under which actions were taken include, but are not limited to:

1. General: National Environmental Policy Act (NEPA) [42 U.S.C. 4321-4351]; Federal-Aid Highway Act [23 U.S.C. 109 and 23 U.S.C. 128].

2. Air: Clean Air Act [42 U.S.C. 7401-7671q]

3. Land: Section 4(f) of the Department of Transportation Act of 1966 [49 U.S.C. 303; 23 U.S.C. 138].

4. Wildlife: Endangered Species Act [16 U.S.C. 1531-1544 and Section 1536]; Fish and Wildlife Coordination Act [16 U.S.C. 661-667d]; Migratory Bird Treaty Act [16. U.S.C. 703-712].

5. Historic and Cultural Resources: Section 106 of the National Historic Preservation Act of 1966, as amended [16 U.S.C. 470f]; Archeological Resources Protection Act of 1977 [16 U.S.C. 470aa-470mm]; Archeological and Historic Preservation Act [16 U.S.C. 469-469c].

6. Social and Economic: Farmland Policy Protection Act (FPPA) [7 U.S.C. 4201-4209].

7. Wetlands and Water Resources: Clean Water Act (Section 404, Section 401, Section 319) [33 U.S.C. 1251-1387]; Land and Water Conservation Fund (LWCF) [16 U.S.C. 4601-4604]; Safe Drinking Water Act (SDWA) [42 U.S.C. 300f-300j-26]; Rivers and Harbors Act of 1899 [33 U.S.C. 401-406; Wetlands Mitigation [23 U.S.C. 119(g) and 133(b)(14)].

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Domestic Assistance Program Number 20.205, Highway Planning and Construction. The regulations implementing Executive Order 12372 regarding intergovernmental consultation on Federal programs and activities apply to this program.)

Authority: 23 U.S.C. 139(l)(1).

Issued on: November 6, 2015.
David J Scott,
Assistant Division Administrator, Saint Paul, Minnesota.

[FR Doc. 2015-29412 Filed 11-19-15; 8:45 am]

BILLING CODE 4910-RY-P